DEPARTMENT OF COMMERCE

National Institute of Standards and Technology

[Docket No. 011204291-2159-02]

RIN 0693-ZA47

Fire Research Grants Program; Availability of Additional Funds

AGENCY: National Institute of Standards and Technology, Commerce.

ACTION: Notice.

SUMMARY: On December 27, 2001, the National Institute of Standards and Technology (NIST) announced in the Federal Register the availability of fiscal year 2002 funding for its small grants programs, including the Fire Research Grants Program. NIST has recently received from the Department of Defense (DoD) $100,000 for the award of a grant or cooperative agreement as part of work conducted by NIST and DoD's Next Generation Fire Suppression Technology Program. NIST will award these funds under the Fire Research Grants Program. However, some of the requirements for the additional funds differ slightly from those announced for the Fire Research Grants Program. Therefore, all requirements and procedures applicable to proposals for this $100,000 appear in this notice.

DATES: Proposals must be received no later than 3:00 PM Eastern Daylight Time on August 7, 2002.

SUPPLEMENTARY INFORMATION:

ADDRESSES: Submit one signed original and two copies of the proposal to: Building and Fire Research Laboratory (BFRL), Attn.: Ms. Wanda Duffin, National Institute of Standards and Technology, 100 Bureau Drive, Stop 8660, Gaithersburg, Maryland 20899-8660, Tel: (301) 975-6863, e-mail: wanda.duffin@nist.gov, Web site: http://www.bfrl.nist.gov.

One of the copies submitted may be in electronic format on a 3½″ diskette or CD-ROM (DOS-formatted, with text in Word 97 or 2000).

Authority: As authorized by 15 U.S.C. 278f, the NIST Building and Fire Research Laboratory conducts directly and through grants and cooperative agreements, a basic and applied fire research program.

Program Description and Objectives

On December 27, 2001, the National Institute of Standards and Technology (NIST) announced in the Federal Register the availability of fiscal year 2002 funding for its small grants programs, including the Fire Research Grants Program (66 FR 66874). NIST has recently received from the Department of Defense (DoD) $100,000 for the award of a grant as part of work conducted by NIST and DoD's Next Generation Fire Suppression Technology Program. NIST will award these funds under the Fire Research Grants Program. A full description of the program is found in the December 27, 2001 Federal Register notice (66 FR 66874).

Environmentally Acceptable Fire Suppressants: The objective is to identify candidate fire suppressant chemicals that are effective, environmentally acceptable, and user-safe and that meet the operational requirements currently satisfied by halon 1301 in aircraft. In particular, NIST is seeking proposals to examine families of chemical compounds and determine by examination of the published literature, calculation and/or experiment (a) whether there are any potentially effective suppressants in the examined family(ies) and (b) the optimal such chemicals.

The proposal should, at a minimum, identify the family(ies) of compounds to be considered, the rationale for their selection, why there is reason to believe they will be effective, and how the attributes of the chemicals will be screened. The proposer should then describe how the optimal candidates will be identified, how many of these chemicals will be procured in sufficient quantity to verify the fire suppression efficiency, and how this verification will be performed. No testing on humans or animals is to be included. All partner and subcontractor organizations and the technical principals shall be identified.

Travel budgets should include, at a minimum, one trip to the Halon Options Technical Working Conference, held each spring in Albuquerque, NM, and one trip to NIST in Gaithersburg, MD, in the autumn of each year.

NIST Technical Note 1443, “Alternative Fire Suppressant Chemicals: A Research Review with Recommendations” provides the most recent survey of the field and discusses desirable attributes of the chemicals. It should be consulted in preparing a proposal. It and additional background information on the research program of which this is a part can be found at the web site: http://www.bfrl.nist.gov/866/NGP.

The Project Leader and contact person for this topic is Richard Gann, and he can be reached at (301) 975-6866 or richard.gann@nist.gov.

Eligibility: Eligible applicants are institutions of higher education, other non-profits, commercial organizations, international organizations, state, local and Indian tribal governments and Federal agencies with appropriate legal authority. Applications from non-Federal and Federal applicants will be competed against each other. Proposals selected for funding from non-Federal applicants will be funded through a project grant or cooperative agreement under the terms of this notice. Proposals selected for funding from non-NIST Federal agencies will be funded through an interagency transfer. Please Note: Before non-NIST Federal applicants may be funded, they must demonstrate that they have legal authority to receive funds from another federal agency in excess of their appropriation. As this announcement is not proposing to procure goods or services from applicants, the Economy Act (31 U.S.C. 1535) is not an appropriate legal basis.

Funding Availability: A total of $100,000 is available to fund one grant or cooperative agreement in fiscal year 2002.

Award Period: Proposals will be considered for research projects from one to three years at a funding level not to exceed $100,000 per year. When a proposal for a multi-year project is approved, funding will initially be provided for only the first year of the program. If an application is selected for funding, DoC has no obligation to provide any additional future funding in connection with that award. Funding for each subsequent year of a multi-year proposal will be contingent on satisfactory progress, continuing relevance to the mission of the program, and the availability of funds.

Proposal Review Process: All applications received in response to this announcement will be reviewed to determine whether or not they are complete and responsive. Incomplete or non-responsive applications will not be reviewed for technical merit. The Program will retain one copy of each non-responsive application for three years for recordkeeping purposes. The remaining copies will be destroyed.

Responsive proposals will be forwarded to the Project Leader who will assign them to appropriate reviewers. Proposals are evaluated for technical merit based on the evaluation criteria by at least three reviewers chosen from NIST professionals, technical experts from other interested government agencies, and experts from the fire research community at large. When non-Federal reviewers are used, reviewers may discuss the proposals with each other, but scores will be determined on an individual basis, not as a consensus. The Project Leader will make funding recommendations to the Chief, Fire Research Division based on the technical evaluation score and the relationship of the work proposed to the objectives of the program.

In making application selections, the Chief, Fire Research Division will take into consideration the results of the evaluations, the scores of the reviewers, the Project Leader's recommendation, the availability of funds, and relevance to the objectives of the Fire Research Grants Program, as described in the Program Description and Objectives section for this program.

The final approval of selected applications and award of financial assistance will be made by the NIST Grants Officer based on compliance with application requirements as published in this notice, compliance with applicable legal and regulatory requirements, and whether the recommended applicants appear to be responsible. Applicants may be asked to modify objectives, work plans, or budgets and provide supplemental information required by the agency prior to award. The award decision of the Grants Officer is final. Applicants should allow up to 90 days processing time. The Program will retain one copy of each application that is not funded for three years for recordkeeping purposes. The remaining copies will be destroyed.

Evaluation Criteria: The technical evaluation criteria are as follows:

a. Technical quality of the research. Reviewers will assess the rationality, innovation and imagination of the proposal and the fit to NIST's in-house fire research program and the Next Generation Fire Suppression Technology Program (NGP). (0-35 points).

b. Potential impact of the results. Reviewers will assess the potential impact and the technical application of the results to our in-house programs, the fire safety community, and the NGP. (0-25 points )

c. Staff and institution capability to do the work. Reviewers will evaluate the quality of the facilities and experience of the staff to assess the likelihood of achieving the objective of the proposal. (0-20 points)

d. Match of budget to proposed work. Reviewers will assess the budget against the proposed work to ascertain the reasonableness of the request. (0-20 points)

Matching Requirements: Matching funds are not required.

Application Kit: For the Fire Research Grants Program, an application kit, containing all required application forms and certifications is available by contacting Ms. Wanda Duffin, (301) 975-6863, website: http://www.bfrl.nist.gov/866/extramuralprogram.htm.

Additional Information:The Department of Commerce Pre-Award Notification Requirements for Grants and Cooperative Agreements contained in the Federal Register notice of October 1, 2001 (66 FR 49917) are applicable to this solicitation. However, please note that the Department of Commerce will not implement the requirements of Executive Order 13202 (66 FR 49921), pursuant to guidance issued by the Office of Management and Budget, in light of a court opinion which found that the Executive Order was not legally authorized. See Building and Construction Trades Department v. Allbaugh, 172 F.Supp. 2d 138 (D.D.C. 2001). This decision is currently on appeal. When the case has been finally resolved, the Department will provide further information on implementation of Executive Order 13202.

In addition, the following information is applicable to this program.

Catalog of Federal Domestic Assistance Name and Number

Measurement and Engineering Research and Standards—11.609

FOR FURTHER INFORMATION CONTACT: All grants related administration questions concerning these programs should be directed to the NIST Grants and Agreements Management Division at (301) 975-6328.

Where websites are referenced within this notice, those who do not have access to the internet websites may contact the appropriate Program official to obtain information.

Fees and/or Profit: It is not the intent of NIST to pay fee or profit for any of the financial assistance awards that may be issued pursuant to this announcement.

Automated Standardized Application for Payment System (ASAP): During FY 2002 and becoming mandatory in FY 2003, the Department of Commerce will begin using the Department of Treasury's ASAP. NIST began using the ASAP system in July 2001 and continues to establish new accounts in ASAP. Awards made pursuant to this announcement may contain the ASAP payment clause. In order to receive payments for services under these awards, recipients will be required to register with the Department of Treasury and indicate whether or not they will use the on-line or voice response method of withdrawing funds from their ASAP established accounts. More information regarding ASAP can be found on-line at http://www.fms.treas.gov/asap/index.html.

Paperwork Reduction Act

The standard forms in the application kit involve a collection of information subject to the Paperwork Reduction Act. The use of Standard Forms 424, 424A, 424B, SF-LLL, and CD-346 have been approved by OMB under the respective Control Numbers 0348-0043, 0348-0044, 0348-0040, 0348-0046, and 0605-0001.

Notwithstanding any other provision of the law, no person is required to respond to, nor shall any person be subject to a penalty for failure to comply with, a collection subject to the requirements of the Paperwork Reduction Act, unless that collection of information displays a currently valid OMB Control Number.

Type of Funding Instrument

The funding instrument will be a grant or cooperative agreement, depending on the nature of the proposed work. A grant will be used unless NIST is “substantially involved” in the project, in which case a cooperative agreement will be used. A common example of substantial involvement is collaboration between NIST scientists and recipient scientists or technicians. Further examples are listed in Section 5.03.d of Department of Commerce Administrative Order 203-26, which can be found at http://www.doc.gov/oebam/GCA manual.htm. NIST will make decisions regarding the use of a cooperative agreement on a case-by-case basis. Funding for contractual arrangements for services and products for delivery to NIST is not available under this announcement.

Classification

This funding notice was determined to be “not significant” for purposes of Executive Order 12866.

It has been determined that this notice does not contain policies with Federalism implications as that term is defined in Executive Order 13132.

Applications under these programs are not subject to Executive Order 12372, “Intergovernmental Review of Federal Programs.”

Because notice and comment are not required under 5 U.S.C. 553, or any other law, for notices relating to public property, loans, grants, benefits or contracts (5 U.S.C. 553(a)), a Regulatory Flexibility Analysis is not required and has not been prepared for this notice, 5 U.S.C. 601 et seq.

Dated: July 2, 2002.
Karen H. Brown,
Deputy Director, NIST.

[FR Doc. 02-16987 Filed 7-5-02; 8:45 am]

BILLING CODE 3510-13-P